DEPARTMENT OF COMMERCE

Patent and Trademark Office

Submission for OMB Review; Comment Request on; “Applications for Trademark Registration”

The United States Patent and Trademark Office (USPTO) will submit to the Office of Management and Budget (OMB) for clearance the following proposal for collection of information under the provisions of the Paperwork Reduction Act (44 U.S.C. Chapter 35).

Agency: United States Patent and Trademark Office, Commerce.

Title: Applications for Trademark Registration.

OMB Control Number: 0651-0009.

Form Number(s):

• PTO Form 1478

• PTO Form 1479

• PTO Form 1480

• PTO Form 1481

• PTO Form 1482

Type of Request: Regular.

Number of Respondents: 437,599 responses per year.

Average Hours per Response: The USPTO estimates that it takes the public between approximately 23 minutes (0.38 hours) to 35 minutes (0.58 hours) to complete this information, depending on the application. This includes the time to gather the necessary information, prepare the application, and submit the complete request to the USPTO. The time estimates shown for the electronic forms in this collection are based on the average amount of time needed to complete and electronically file the associated form.

Burden Hours: 205,854.64 hours per year.

Cost Burden: $109,770,653 per year.

Needs and Uses: The information in this collection is a matter of public record and is used by the public for a variety of private business purposes related to establishing and enforcing trademark rights. The information is available at USPTO facilities and can also be accessed at the USPTO's website. Additionally, the USPTO provides the information to other entities, including Patent and Trademark Resource Centers (PTRCs). The PTRCs maintain the information for use by the public.

Affected Public: Businesses or other for-profits; not-for-profit institutions.

Frequency: On occasion.

Respondent's Obligation: Required to Obtain or Retain Benefits.

OMB Desk Officer: Nicholas A. Fraser, email: Nicholas_A._Fraser@omb.eop.gov.

Once submitted, the request will be publicly available in electronic format through www.reginfo.gov. Follow the instructions to view Department of Commerce collections currently under review by OMB.

Further information can be obtained by:

• Email: InformationCollection@uspto.gov. Include “0651-0009 copy request” in the subject line of the message.

• Mail: Marcie Lovett, Records and Information Governance Division Director, Office of the Chief Technology Officer, United States Patent and Trademark Office, P.O. Box 1450, Alexandria, VA 22313-1450.

Written comments and recommendations for the proposed information collection should be sent on or before January 22, 2018 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-27477 Filed 12-20-17; 8:45 am]

BILLING CODE 3510-16-P